NUCLEAR REGULATORY COMMISSION

10 CFR Part 50

[NRC-2014-0161 and NRC-2019-0062]

RIN 3150-AJ43

Financial Qualifications Requirements for Reactor Licensing

AGENCY: Nuclear Regulatory Commission.

ACTION: Discontinuation of rulemaking activity.

SUMMARY: The U.S. Nuclear Regulatory Commission (NRC) is discontinuing a rulemaking activity that would have revised the current financial qualification requirements of “reasonable assurance” to the review standard of “appears to be financially qualified.” The purpose of this document is to inform members of the public that the NRC is discontinuing this rulemaking activity. The staff will address financial qualifications during the development of an ongoing rulemaking activity to establish a risk-informed, technology inclusive regulatory framework for advanced reactors.

DATES: As of September 27, 2022, the rulemaking activity discussed in this document is discontinued.

ADDRESSES: Please refer to Docket ID NRC-2014-0161 when contacting the NRC about the availability of information for this action. You may obtain publicly available information related to this action by any of the following methods:

• Federal Rulemaking Website: Go to https://www.regulations.gov and search for Docket ID NRC-2014-0161. Address questions about NRC dockets to Dawn Forder; telephone: 301-415-3407; email: Dawn.Forder@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in the SUPPLEMENTARY INFORMATION section.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8 a.m. and 4 p.m. (ET), Monday through Friday, except Federal holidays.

FOR FURTHER INFORMATION CONTACT: Tyler Hammock, Office of Nuclear Material Safety and Safeguards, U.S. Nuclear Regulatory Commission, Washington, DC 20555-0001; telephone: 301-415-1381, email: Tyler.Hammock@nrc.gov.

SUPPLEMENTARY INFORMATION: On June 17, 2015, the NRC published a draft regulatory basis for public comment in the Federal Register (80 FR 34559). In the draft regulatory basis, the staff recommended revising the current financial qualification requirements of “reasonable assurance” to the review standard of “appears to be financially qualified,” and rescinding appendix C to part 50 of title 10 of the Code of Federal Regulations (10 CFR), “A Guide for Financial Data and Related Information Required to Establish Financial Qualifications for Construction Permits and Combined Licenses.” Comments were requested by August 3, 2015. During the comment period, the NRC conducted two public meetings.

The NRC received four public comment submissions on the draft regulatory basis. Comments were received from the University of Florida, The George Washington University Regulatory Studies Center, the Nuclear Energy Institute, and Coqui Radio Pharmaceuticals Corporation. The comments are available at www.regulations.gov by searching on Docket ID NRC-2014-0161.

On February 26, 2018, the NRC staff submitted to the Commission for approval a draft proposed rule (ADAMS Accession No. ML17172A536) to amend the NRC's financial qualifications requirements in 10 CFR part 50, “Domestic Licensing of Production and Utilization Facilities,” to conform to the standards in 10 CFR part 70, “Domestic Licensing of Special Nuclear Material.” In Staff Requirements Memorandum SRM-SECY-18-0026, “Proposed Rule: Financial Qualifications Requirements for Reactor Licensing,” dated July 14, 2022 (ADAMS Accession No. ML22195A097), the Commission disapproved the draft proposed rule. The Commission directed the staff to address financial qualifications during the development of part 53, “Risk-Informed, Technology Inclusive Regulatory Framework for Advanced Reactors” (Docket ID NRC-2019-0062), and to solicit stakeholder feedback on financial qualifications. Thus, the NRC is discontinuing this rulemaking activity.

In the next edition of the Unified Agenda, the NRC will update the entry for this rulemaking activity and reference this document to indicate that the rulemaking activity is no longer being pursued. This rulemaking activity will appear in the completed actions section of that edition of the Unified Agenda but will not appear in future editions. You can access information regarding the ongoing rulemaking that will consider aspects of the NRC's financial assurance requirements, “Risk-Informed, Technology Inclusive Regulatory Framework for Advanced Reactors” on www.regulations.gov; search for Docket ID NRC-2019-0062. The NRC tracks the status of all planned rulemaking activities on its public website, https://www.nrc.gov/reading-rm/doc-collections/rulemaking-ruleforum/active/ruleindex.html.

Dated: September 21, 2022.
For the Nuclear Regulatory Commission.
Brooke P. Clark,
Secretary of the Commission.

[FR Doc. 2022-20859 Filed 9-26-22; 8:45 am]

BILLING CODE 7590-01-P